DEPARTMENT OF THE TREASURY

United States Secret Service

Proposed Collection; Comment Request

April 19, 2000.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(C)(2)(A)). Currently, the United States Secret Service, within the Department of the Treasury is soliciting comments concerning the SSF 3237, Contractor Personnel Access Application.

DATES: Written comments should be received on or before June 30, 2000.

ADDRESSES: Direct all written comments to United States Secret Service, Special Investigations and Security Division, Attn: Special Agent Richard Harrington, Special Investigations and Security Programs Branch, 950 H St., NW, Washington, DC 20373-5824, Suite 3800, 202/406-5830.

FOR FURTHER INFORMATION CONTACT: Requests for additional information or copies of the form(s) and instructions should be directed to: United States Secret Service, Special Investigations and Security Division, Attn: Special Agent Richard Harrington, Security Programs Branch, 950 H Street, NW, Washington, DC 20373-5824. Telephone number: (202) 406-5830.

SUPPLEMENTARY INFORMATION: Title: Contractor Personnel Access Application.

OMB Number:

Form Number: SSF 3237.

Abstract: Respondents are all Secret Service contractor personnel requiring access to Secret Service facilities performance of their contractual duties. These contractors, if approved for access, will require escorted, unescorted, and staff-like access to Secret Service facilities. Response to questions on the SSF 3237 yields information necessary for the adjudication of eligibility for facility access.

Type of Review: New.

Affected Public: Individuals or Households/Business.

Estimated Number of Respondents: 5000.

Estimated Time Per Respondent: 15 minutes.

Estimated Total Annual Burden Hours: 1250 hours.

Request for Comments: Comments submitted in response to this notice will be summarized and/or included in the request for OMB approval. All comments will become a matter of public record. Comments are invited on:

(a) Whether the collection of information is necessary for the proper performance of the functions of the agency, including whether the information shall have practical utility;

(b) The accuracy of the agency's estimate of the burden of the collection of information;

(c) Ways to enhance the quality, utility, and clarity of the information to be collected;

(d) Ways to minimize the burden of the collection of information on respondents, including through the use of automated collection techniques or other forms of information technology; and

(e) The annual cost burden to respondents or record keepers from the collection of information (a total capital and start-up cost and a total operation and maintenance cost).

Dated: April 19, 2000.
John Machado,
Branch Chief, Policy Analysis and Records Systems Branch.

[FR Doc. 00-11266 Filed 5-4-00; 8:45 am]

BILLING CODE 4810-42-M